GENERAL SERVICES ADMINISTRATION

[OMB Control No. 3090-0324; Docket No. 2021-0001; Sequence No. 10]

Submission for OMB Review; General Services Administration Acquisition Regulation; Foreign Ownership and Financing Representation for High-Security Leased Space

AGENCY: Office of Acquisition Policy, General Services Administration (GSA).

ACTION: Notice of request for comments.

SUMMARY: In accordance with the Paperwork Reduction Act of 1995 and Office of Management and Budget (OMB) regulations, GSA invites the public to comment on an extension concerning disclosure of foreign ownership information under high-security lease space acquisitions. OMB has approved this information collection for use through January 31, 2022. GSA proposes that OMB extend its approval for use for three additional years beyond the current expiration date.

DATES: GSA will consider all comments received by December 3, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Stephen Carroll, 817-253-7858, General Services Acquisition Policy Division, by email at gsarpolicy@gsa.gov.

SUPPLEMENTARY INFORMATION:

A. Purpose

The Paperwork Reduction Act (PRA) of 1995 (44 U.S.C. 3501 et seq.) provides that an agency generally cannot conduct or sponsor a collection of information, and no person is required to respond to, nor be subject to, a penalty for failure to comply with a collection of information, unless that collection has obtained Office of Management and Budget (OMB) approval and displays a currently valid OMB Control Number.

Consistent with 5 CFR 1320.13, GSA requested and OMB authorized emergency processing of an information collection, as OMB Control Number 3090-0324, to identify the immediate or highest-level owner of high-security leased space, including any financing entity, and disclose whether that owner or financing entity is a foreign person or entity, including the country associated with the ownership or financing entity through GSAR 552.270-33. GSA has determined the following conditions have been met:

a. The collection of information is needed prior to the expiration of time periods normally associated with a routine submission for review under the provisions of the Paperwork Reduction Act, because the disclosure requirements of Section 3 of the Secure Federal LEASEs Act (Pub. L. 116-276) were effective on June 30, 2021.

b. The collection of information is essential to GSA's mission to ensure GSA complies with Section 3 in order to reduce security risks such as espionage and unauthorized cyber and physical access in high-security leased space.

c. GSA cannot comply with the normal clearance procedures because public harm is reasonably likely to result if current clearance procedures are followed.

This requirement supports implementation of Section 3 of the Secure Federal LEASEs Act (Pub. L. 116-276) for high-security leased space. This section requires offerors to identify the immediate or highest-level owner of the space, including any financing entity, and disclose whether that owner or financing entity is a foreign person or entity, including the country associated with the ownership entity. The offerors shall (1) provide such identification and disclosure when first submitting a proposal in response to a solicitation; and, if awarded the lease, (2) update such information annually.

This requirement is partially implemented in the Federal Acquisition Regulation (FAR) through the provisions at FAR 52.204-3, Taxpayer Identification, FAR 52.204-7, System for Award Management, FAR 52.204-17, Ownership and Control of Offeror, and clause at FAR 52.204-13, System for Award Management Maintenance. OMB Control Numbers 9000-0097 and 9000-0185 cover the FAR provisions and clause. However, the FAR does not account for foreign financing as required by the Act.

B. Annual Reporting Burden

This information collection applies to GSA lease procurements for high-security space. The annual public reporting burden for this collection of information through GSAR 552.270-33 is estimated based on the time for reviewing instructions, searching existing data sources, gathering and maintaining the data needed, and completing and reviewing the collection of information.

The annual reporting burden is estimated as follows:

1. Initial Disclosure

Baseline Representation

Estimated annual responses: 542.

Estimated hours per response: 2.

Additional Representation

Estimated annual responses: 54.

Estimated hours per response: 10.

Total Initial Response Burden Hours: 1,624.

2. Annual Updates

Estimated annual responses: 542.

Estimated hours per response: 0.25.

Total Update Response Burden Hours: 136.

C. Public Comments

A 60-day notice published in the Federal Register at 86 FR 48143 on August 27, 2021. No comments were received.

Obtaining Copies of Proposals: Requesters may obtain a copy of the information collection documents from the GSA Regulatory Secretariat Division, by calling 202-501-4755 or emailing GSARegSec@gsa.gov.

Jeffrey A. Koses,
Senior Procurement Executive, Office of Acquisition Policy, Office of Government-wide Policy.

[FR Doc. 2021-23946 Filed 11-2-21; 8:45 am]

BILLING CODE 6820-61-P